DEPARTMENT OF ENERGY

Environmental Management Advisory Board; Meeting

AGENCY: Department of Energy.

ACTION: Notice of open meeting.

SUMMARY: This notice announces a meeting of the Environmental Management Advisory Board. The Federal Advisory Committee Act (Pub. Law No. 92-463, 86 Stat. 770) requires that public notice of these meetings be announced in the Federal Register.

DATES: Thursday, April 13, 2000 and Friday, April 14, 2000.

ADDRESSES: U.S. Department of Energy, Forrestal Building, 1000 Independence Avenue SW, (Room 1E-245), Washington, DC 20585.

FOR FURTHER INFORMATION CONTACT: James T. Melillo, Executive Director of the Environmental Management Advisory Board, (EM-10), 1000 Independence Avenue SW, (Room 5B-161), Washington, DC 20585. The telephone number is 202-586-4400. The Internet address is james.melillo@em.doe.gov.

SUPPLEMENTARY INFORMATION: Purpose of the Board: To provide the Assistant Secretary for Environmental Management (EM) with advice and recommendations on issues confronting the Environmental Management Program from the perspective of affected groups, as well as state, local, and tribal governments. The Board will contribute to the effective operation of the Environmental Management Program by providing individual citizens and representatives of interested groups an opportunity to present their views on issues facing the Office of Environmental Management and by helping to secure consensus recommendations on those issues.

Tentative Agenda

Thursday, April 13, 2000

Public Meeting Opens (1:00 P.M.)

—Approve Minutes of September 22-23, 1999 Meeting

Opening Remarks

Budget Update

Worker Health & Safety Committee Report

—Integrated Safety Management Implementation*

—Environment, Safety and Health in Technology Development*

Contracting and Management Committee Report

—Shared Savings*

—Project Management*

Long-Term Stewardship Committee Report

—Institutional Controls*

—Next Steps for Stewardship

Technology Development & Transfer Committee Report

—Environmental Management Science & Technology Performance Measures*

Science Committee Report

Integration and Transportation Committee Report

Public Comment Period and Adjournment (5:15 P.M.)

Friday, April 14, 2000

Opening Remarks (8:30 A.M.)

Board Discussion

Public Comment Period

Board Business

—Votes on EMAB Findings & Resolutions

—New Business

—Set Date for Next Board Meeting (October 2000)

Public Comment Period

Meeting Adjourns (12:00 P.M.)

*The Board anticipates recommendations to be presented on this topic.

Public Participation: This meeting is open to the public. If you would like to file a written statement with the Board, you may do so either before or after the meeting. If you would like to make an oral statement regarding any of the items on the agenda, please contact Mr. Melillo at the address or telephone number listed above, or call the Environmental Management Advisory Board office at 202-586-4400, and we will reserve time for you on the agenda. You may also register to speak at the meeting on April 13-14, 2000, or ask to speak during the public comment period. Those who call in and or register in advance will be given the opportunity to speak first. Others will be accommodated as time permits. The Board Chairs will conduct the meeting in an orderly manner.

Transcript and Minutes: We will make the minutes of the meeting available for public review and copying by approximately May 13, 2000. The minutes and transcript of the meeting will be available for viewing on the Internet at http://www.em.doe.gov/emab/products.html and at the Freedom of Information Public Reading Room (1E-190) in the Forrestal Building, U.S. Department of Energy, 1000 Independence Avenue, SW, Washington, DC 20585. The Room is open Monday through Friday from 9:00 a.m.-4:00 p.m. except on Federal holidays.

Issued in Washington, D.C. on March 10, 2000.
Rachel M. Samuel,
Deputy Advisory Committee Management Officer.

[FR Doc. 00-6503 Filed 3-15-00; 8:45 am]

BILLING CODE 6450-01-P